DEPARTMENT OF THE INTERIOR

Bureau of Land Management

[LLNML00000.L16100000.DP0000.234L1109AF]

Notice of Intent To Prepare a Resource Management Plan for the Organ Mountains-Desert Peaks National Monument and an Associated Environmental Impact Statement, New Mexico

AGENCY: Bureau of Land Management, Interior.

ACTION: Notice of intent.

SUMMARY: In compliance with the National Environmental Policy Act of 1969, as amended (NEPA), and the Federal Land Policy and Management Act of 1976, as amended, the Bureau of Land Management (BLM) New Mexico State Director intends to develop a Resource Management Plan (RMP) with an associated Environmental Impact Statement (EIS) for the Organ Mountains-Desert Peaks National Monument (Monument) and by this notice is announcing the beginning of the scoping period to solicit public comments and identify issues, is providing the planning criteria for public review, and is issuing a call for nominations for areas of critical environmental concern (ACECs). The Mimbres RMP currently provides for BLM management in this new planning area. The RMP revision would replace the existing Mimbres RMP within the now-established National Monument.

DATES: The BLM requests the public submit comments concerning the scope of the analysis, potential alternatives, and identification of relevant information, studies, and ACEC nominations by July 24, 2023. To afford the BLM the opportunity to consider issues ACEC nominations raised by commenters in Draft RMP/EIS, please ensure your comments are received prior to the close of the 30-day scoping period or 15 days after the last public meeting, whichever is later.

ADDRESSES: You may submit comments on issues and planning criteria related to the Organ Mountains-Desert Peaks National Monument Resource Management Plan and nominations of new ACECs by any of the following methods:

• Website: https://eplanning.blm.gov/eplanning-ui/project/92170/.

• Email: blm_nm_lcdo_comments@blm.gov.

• Mail: BLM Las Cruces District Office, Attention: Mara Weisenberger, 1800 Marquess Street, Las Cruces, NM 88005.

Documents pertinent to this proposal may be examined online at https://eplanning.blm.gov/eplanning-ui/project/92170/510 and at the Las Cruces District Office.

FOR FURTHER INFORMATION CONTACT: BLM RMP/EIS Team Lead Mara Weisenberger, telephone: 575-525-4358; address: 1800 Marquess Street, Las Cruces, New Mexico, 88005; email: mweisenberger@blm.gov. Contact Mara Weisenberger to have your name added to our mailing list. Individuals in the United States who are deaf, deafblind, hard of hearing, or have a speech disability may dial 711 (TTY, TDD, or TeleBraille) to access telecommunications relay services for contacting Ms. Weisenberger. Individuals outside the United States should use the relay services offered within their country to make international calls to the point-of-contact in the United States.

SUPPLEMENTARY INFORMATION: This document provides notice that the BLM New Mexico State Director intends to prepare an RMP with an associated EIS for the Organ Mountains-Desert Peaks National Monument, announces the beginning of the scoping process, seeks public input on issues and planning criteria, and invites the public to nominate ACECs. The planning area is located in Doña Ana and Luna counties, New Mexico, and encompasses approximately 573,613 of public land. The Organ Mountains-Desert Peaks National Monument RMP would replace the existing Mimbres RMP for this new planning area.

Purpose and Need for the RMP

In determining the suite of management actions necessary to protect, restore, and enhance the Monument for the benefit of all Americans, this RMP responds to four important sources of overarching requirements and guidance:

(1) Presidential Proclamation 9131 of May 21, 2014, which created the Monument and identified the objects of scientific and historic interest for protection, restoration, and enhancement. The Proclamation identified six primary resources, objects, and values: visual resources, cultural resources, geological resources, paleontological resources, educational values, and scientific values. The Proclamation also provided that the use of motorized vehicles in the Monument would be allowed only on roads and trails designated for use by motorized vehicles under the Monument's RMP. Existing rights-of-way will continue to be authorized, and other rights-of-way will be authorized only if they are necessary for the care and management of the six resources, objects, and values. All Federal lands and interests within the boundaries of the Monument are withdrawn from all forms of entry, location, selection, sale, leasing, or other disposition.

(2) Section 2002 of the Omnibus Public Land Management Act of 2009, which established the National Landscape Conservation System, of which the Monument is a unit, “in order to conserve, protect, and restore nationally significant landscapes.” This section also provides that the BLM manage these lands “in a manner that protects the values for which the components of the system were designated.”

(3) The Federal Land Policy and Management Act, which directs the BLM to develop land use plans to manage the public lands and resources to allow for multiple uses while assuring the sustained yield, diversity, and productivity of those lands for present and future generations. Section 302 of the Federal Land Policy and Management Act provides that the BLM is to manage public lands under the principles of multiple use and sustained yield, “except that where a tract of such public land has been dedicated to specific uses according to any other provision of law it shall be managed in accordance with such law.” This tract of public land has been designated as a national monument and is part of the National Conservation Lands network managed by the BLM.

(4) The 2019 John D. Dingell, Jr. Conservation, Management, and Recreation Act (Pub. L. 116-9) designated ten new wilderness areas in the Monument encompassing approximately 241,554 acres of wilderness. The ten wilderness areas include the Aden Lava Flow Wilderness Area, Broad Canyon Wilderness Area, Cinder Cone Wilderness Area, East Potrillo Mountains Wilderness Area, Organ Mountains Wilderness Area, Robledo Mountains Wilderness Area, Sierra de las Uvas Wilderness Area, Potrillo Mountains Wilderness Area, Whitethorn Wilderness Area, and the Mount Riley Wilderness Area. Public Law 116-9 imposed additional requirements for land acquisitions, while the Wilderness Act itself provides additional requirements on how these wilderness areas are managed.

The Federal Land Policy and Management Act and Presidential Proclamation 9131 establish the need for this action within the Monument. The Federal Land Policy and Management Act requires the BLM to develop RMPs that provide for the use of public lands. The Proclamation specifies that the BLM “shall prepare and maintain a management plan for the Monument and shall provide for maximum public involvement in the development of that plan including, but not limited to, consultation with Tribal, State, and local governments.” The BLM does not currently manage the Monument under a monument-specific RMP; the area encompassing the Monument is currently managed under the 1993 Mimbres RMP. However, that RMP does not address changes that have occurred since 1993, nor does it account for expected future changes.

The purpose of this plan is to protect, restore, and enhance the objects of scientific and historic interest in the Monument identified in Presidential Proclamation 9131, while respecting legal existing and traditional uses. The plan should also maintain and enhance recreational opportunities and other uses of the Monument through allocations, education, and interpretation.

The RMP will also safeguard Tribal treaty rights, and will, as provided for in the Proclamation, “in consultation with Indian tribes, ensure the protection of religious and cultural sites in the monument and provide access to the sites by members of Indian tribes for traditional cultural and customary uses, consistent with the American Indian Religious Freedom Act (92 stat. 496, 42 U.S.C. 1996) and Executive Order 13007 of May 24, 1996 (Indian Sacred Sites).” The RMP will respond to continued urban growth and increased tourism in the Las Cruces metropolitan area, changes in recreational uses in the Monument units, designation of new wilderness areas in the Monument, imposition of additional requirements for land acquisitions under Public Law 116-9, new scientific information, and the effects of climate change and livestock grazing.

Continued Urban Growth and Increased Tourism

The purpose of the action includes responding to continuing urban growth and increased tourism in the Las Cruces metropolitan area, which has increased the need for public land to accommodate many forms of recreational activities. The population in the Las Cruces metropolitan area increased from 101,759 in 2016 to 217,696 in 2020, and this trend is expected to continue. The number of visits to the Monument increased from 190,934 in 2014 to 662,445 in 2021. Additionally, there are several communities within the Monument that have grown over the past several years and need continued and/or upgraded services such as broadband and utilities.

Tribal members are important users of the Monument and use the Monument for traditional and ceremonial purposes. A new management plan must consider and respond to the needs of all users.

Changes in Recreational Uses

The purpose of the action includes responding to changes in recreational uses in the Monument units, particularly after the Monument's designation in May 2014. For example, there is a growing network of all-terrain and other vehicle trails radiating out from the City of Las Cruces, the Mesilla Valley, and the Village of Hatch, particularly in the Doña Ana Mountains unit. Additionally, the Doña Ana Mountains ACEC is classified as Visual Resource Management Class I in the 1993 Mimbres RMP, and the volume of increased recreational use is an issue that needs to be explored. There are several recreational activities that are popular but possibly degrading to resources, such as bouldering and rock climbing, off-highway vehicle use, recreational shooting, and mountain biking. This may require that some areas within the Monument be considered for special designations, such as a special recreation management area. Additionally, popular recreation areas within the Monument include Kilbourne Hole, Dripping Springs Natural Area, Aguirre Spring Recreation Area, Soledad Canyon Day Use Area, Sierra Vista National Recreation Trail, Doña Ana Mountains unit, and the Organ Mountains Wilderness. As the demand for recreation increases in the Monument, there is a need to improve access and connectivity to other less-used areas to reduce pressure on these popular recreation areas. Education and interpretation may also be needed to reduce user conflicts, educate about sensitive resources and traditional uses, and create a culture of preservation among recreationists.

Designation of New Wilderness Areas Under Public Law 116-9

The purpose of the action includes responding to the designation of new wilderness areas in the Monument and imposition of additional requirements for land acquisitions under Public Law 116-9. The Wilderness Act of 1964 (Pub. L. 88-577) provides for the establishment of wilderness areas (designated by Congress) that are administered for the use and enjoyment of the American people in such a manner that leaves them unimpaired for future use and enjoyment as wilderness. BLM Manual 6340 provides the BLM with guidance for the management of designated wilderness areas. Public Law 116-9 designated ten new wilderness areas in the Monument encompassing approximately 241,554 acres of wilderness. Public Law 116-9 also requires that any land or interest in land acquired by the BLM within the boundary of a wilderness area must become part of the wilderness area and be managed in accordance with the Wilderness Act, the provisions of Public Law 116-9 1201, and any other applicable laws.

New Scientific Information

The purpose of the action includes responding to new scientific information about the Monument. Since 1993, several studies have been completed that provide the BLM with new and updated data regarding the Monument, enabling the BLM to make better informed management decisions and improve practices. These include a 2017 visual resources inventory, 2017 visitor satisfaction survey, 2018 recreation focus group study, 2019 lichen and biological crust diversity studies, 2019/2020 U.S. Geological Survey watershed study and inventory of soil and water resources, 2016-2021 paleontological inventories, 2021 Analysis of Management Situation, and ongoing Tribal consultation, wilderness inventories, and an air emissions inventory.

Effects of Climate Change and Livestock Grazing

The purpose of the action includes responding to the effects of climate change and loss of grassland habitat, increased wildfire frequency, and livestock grazing's interaction with ecosystem functionality. Many of the perennial grasslands in the Monument have already been converted to shrublands. Climate change is expected to further impact grassland habitat in the Monument by making it more difficult for grass species to reestablish during the growing season. This will also cause shrubs and other nonnative species to establish, which reduces or completely inhibits the chances of native grass species to reestablish in that area.

Preliminary Alternatives

The BLM will be analyzing alternatives that explore and evaluate different ways of achieving the purpose and need listed above. The alternatives will explore different outcomes to be addressed during this planning effort to understand the trade-offs of different land management approaches. In addition to the No Action Alternative, the BLM will develop three action alternatives to analyze in detail. Alternative A is the No Action Alternative; it would continue current management direction and prevailing conditions derived from existing planning decisions. Alternative B would emphasize the greatest protections and conservation by maintaining or enhancing habitat. It would provide opportunities for recreation and travel with the most restrictions. Alternative C is similar to Alternative B but would emphasize the protection of resilient and intact landscapes while allowing for discretionary uses in identified management areas with fewer restrictions than Alternative B. Alternative D would have the fewest restrictions on recreation and travel management, while maintaining ecological function and meeting land capability to protect Monument resources, objects, and values. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and stakeholders. The BLM has identified sixteen preliminary issues for this planning effort's analysis. The planning criteria are available for public review and comment at the ePlanning website (see ADDRESSES).

Summary of Expected Impacts

Consistent with protection of the Organ Mountains-Desert Peaks National Monument objects identified in Proclamation 9131, implementation of a new RMP may impact, either beneficially or adversely, resources and uses within the Monument, including visual resources, cultural resources, geological resources, paleontological resources, educational and scientific values, and other human and environmental resources. The Proclamation also provided that the use of motorized vehicles in the Monument will be allowed only on roads and trails designated for use by motorized vehicles under the Monument's RMP. Existing rights-of-way will continue to be authorized, and other rights-of-way will be authorized only if they are necessary for the care and management of the Monument's resources, objects, and values. All Federal lands and interests within the boundaries of the Monument are withdrawn from all forms of entry, location, selection, sale, leasing, or other disposition.

Schedule for the Decision-Making Process

The BLM will provide additional opportunities for public participation consistent with the NEPA and land use planning processes, including a 90-day comment period on the Draft RMP/EIS, and a concurrent 30-day public protest period and 60-day Governor's consistency review on the Proposed RMP. The Draft RMP/EIS is anticipated to be available for public review in the Fall of 2023 and the Proposed RMP/Final EIS is anticipated to be available for public protest of the Proposed RMP in the spring of 2024 with an Approved RMP and Record of Decision expected in the summer of 2024.

Public Scoping Process

This notice of intent initiates the scoping period and public review of the planning criteria, which guides the development and analysis of the Draft RMP/EIS.

The BLM will be holding a total of six scoping meetings. All six scoping meetings will be conducted in-person: two in Las Cruces, one each in Anthony, Hatch, and Deming, New Mexico, and East El Paso, Texas. In compliance with Department of the Interior public health guidelines, the BLM may need to hold public meetings in a virtual format if county-level transmission of COVID-19 is “high” at the time of the public meetings. The specific date(s) and location(s) of these meetings and any additional scoping meetings will be announced at least 15 days in advance through the local newspapers and radio stations, social media, and the ePlanning website: https://eplanning.blm.gov/eplanning-ui/project/92170/510.

The ePlanning website https://eplanning.blm.gov/eplanning-ui/project/92170/510 also includes, or will include background information on Organ Mountains-Desert Peaks National Monument, a planning process overview, preliminary planning criteria, and interim management guidance. You may submit comments on issues, potential alternatives, relevant information and analyses, and the preliminary planning criteria in writing to the BLM at any public scoping meeting or, to the BLM using one of the methods listed in the ADDRESSES section.

ACECs

The following ACECs are currently designated in the planning area: the Organ/Franklin Mountains ACEC (54,817 acres), Robledo Mountains ACEC (7,829 acres), and Doña Ana Mountains ACEC (1,427 acres). Information about each existing ACEC, including the size, relevant and important values, and other helpful information is available in the December 2021 Organ Mountains-Desert Peaks National Monument Analysis of the Management Situation or on the project's website in the ADDRESSES section. The BLM will reevaluate existing designated ACECs in the Draft RMP/EIS to determine if relevant and important values still exist.

This notice invites the public to nominate additional areas for ACEC consideration. To assist the BLM in evaluating nominations for consideration in the Draft RMP/EIS, please provide supporting descriptive materials, maps, and evidence of the relevance and importance of resources or hazards by the close of the public comment period in order to facilitate timely evaluation (see DATES and ADDRESSES). The BLM has identified the anticipated issues related to the consideration of ACECs in the planning criteria.

Lead and Cooperating Agencies

Federal, State, and local agencies, along with federally recognized Tribal Nations, may request or be asked by the BLM to participate as a cooperating agency. At this time the BLM has identified the following potential cooperating agencies: City of Las Cruces; Doña Ana County; Doña Ana Soil and Water Conservation District; Deming Soil and Water Conservation District; Department of Defense Fort Bliss; Department of Defense White Sands Missile Range; New Mexico Department of Agriculture; New Mexico Department of Game and Fish; New Mexico State Land Office; Natural Resources Conservation Service New Mexico, South Area; National Park Service, White Sands National Park; and the U.S. Fish and Wildlife Service, San Andres National Wildlife Refuge. Thirteen federally recognized Tribes with interests in the Organ Mountains-Desert Peaks National Monument were invited to participate as a cooperating agency in addition to the formal government-to-government consultation that will occur.

Responsible Official

The New Mexico State Director is the deciding official for this planning effort.

Nature of Decision To Be Made

The nature of the decision to be made will be the State Director's selection of land use planning decisions for managing BLM-administered lands under the principles of multiple use and sustained yield in a manner that best addresses the purpose and need.

Interdisciplinary Team

The BLM will use an interdisciplinary approach to develop the plan in order to consider the variety of resource issues and concerns identified. Specialists with expertise in the following disciplines will be involved in this planning effort: vegetation, lands and realty, renewable energy, wildlife fire ecology and management, wilderness, wildlife and special status species, public health and safety, geology and minerals, paleontology, water resources, recreation, transportation, visual resources, rangeland management, cultural resources, tribal resources, soils, sociology, and economics.

Additional Information

The BLM will identify, analyze, and consider mitigation to address the reasonably foreseeable impacts to resources from the proposed plan and all analyzed reasonable alternatives and, in accordance with 40 CFR 1502.14(e), include appropriate mitigation measures not already included in the proposed plan or alternatives. Mitigation may include avoidance, minimization, rectification, reduction or elimination over time, and compensation; it may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed Organ Mountains-Desert Peaks National Monument RMP that the BLM is evaluating, are invited to participate in the scoping process and, if eligible, may request or, be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Sheila Hutcherson,
Acting Associate State Director.

[FR Doc. 2023-13233 Filed 6-21-23; 8:45 am]

BILLING CODE 4331-23-P